DEPARTMENT OF COMMERCE

Foreign-Trade Zones Board

[S-39-2018]

Approval of Subzone Status; CEVA Freight LLC; Mount Juliet and Lebanon, Tennessee

On February 26, 2018, the Executive Secretary of the Foreign-Trade Zones (FTZ) Board docketed an application submitted by the Metropolitan Government of Nashville and Davidson County, grantee of FTZ 78, requesting subzone status subject to the existing activation limit of FTZ 78, on behalf of CEVA Freight LLC in Mount Juliet and Lebanon, Tennessee.

The application was processed in accordance with the FTZ Act and Regulations, including notice in the Federal Register inviting public comment (83 FR 8966, March 2, 2018). The FTZ staff examiner reviewed the application and determined that it meets the criteria for approval. Pursuant to the authority delegated to the FTZ Board Executive Secretary (15 CFR Sec. 400.36(f)), the application to establish Subzone 78K was approved on May 2, 2018, subject to the FTZ Act and the Board's regulations, including Section 400.13, and further subject to FTZ 78's 2,000-acre activation limit.

Dated: May 2, 2018.
Andrew McGilvray,
Executive Secretary.

[FR Doc. 2018-09753 Filed 5-7-18; 8:45 am]

BILLING CODE 3510-DS-P